DEPARTMENT OF COMMERCE

National Oceanic and Atmospheric Administration

[I.D. 072606F]

New England Fishery Management Council; Public Meeting

AGENCY: National Marine Fisheries Service (NMFS), National Oceanic and Atmospheric Administration (NOAA), Commerce.

ACTION: Notice of a public meeting.

SUMMARY: The New England Fishery Management Council's (Council) Groundfish Oversight Committee will meet to consider actions affecting New England fisheries in the exclusive economic zone (EEZ).

DATES: The meeting will be held on Thursday, August 24, 2006, at 9 a.m.

ADDRESSES: The meeting will be held at the Eastland Park Hotel, 157 High Street, Portland, ME 04101; telephone: (207) 775-5411.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Groundfish Oversight Committee will meet to begin discussion of the next adjustment to the Northeast Multispecies Fishery Management Plan (FMP). The most recent amendment to this FMP adopted measures to rebuild groundfish stocks and called for an evaluation of rebuilding progress in 2008, with any adjustments to measures to be implemented on May 1, 2009. These changes will be supported by updated stock assessments and an evaluation of biological reference points. The Committee will review issues related to scheduling of these assessments and their interaction with management actions. The Committee will also consider whether the adjustment should be an amendment or a framework action, and may begin the process of identifying the types of measures that will be considered. A recommendation for timing of the assessments and a plan for the management action will be presented to the New England Fishery Management Council for review at its September 26-28, 2006 meeting in Peabody, MA.

2. A second issue to be addressed by the Committee will be a follow-up to an issue addressed in Framework Adjustment 42 (FW 42) to the FMP. FW 42 is under review by NOAA Fisheries. One of the Council's recommendations in that action requires the Committee to develop a standard to be used for the approval of additional gear that can be used in the Eastern U.S./Canada Haddock Special Access Program. The Committee will work to develop such a standard so that it can be quickly implemented should that measure be approved. The Committee's work on this issue will also be considered by the Council in September.

3. The Committee will also receive a report on recent assessments of Eastern Georges Bank cod and haddock, and Georges Bank yellowtail flounder that were completed by the Transboundary Resource Assessment Committee. These assessments will be used to establish total allowable catch limits for these stocks that will be used in fishing year 2007.

4. The Committee may review and develop comments on the proposed rule for FW 42.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: July 27, 2006.
Tracey L. Thompson,
Acting Director, Office of Sustainable Fisheries, National Marine Fisheries Service.

[FR Doc. E6-12293 Filed 7-31-06; 8:45 am]

BILLING CODE 3510-22-S